INTERNATIONAL TRADE COMMISSION

[Investigation No. 731-TA-696 (Third Review)]

Pure Magnesium From China

Determination

On the basis of the record ¹ developed in the subject five-year review, the United States International Trade Commission (Commission) determines, pursuant to section 751(c) of the Tariff Act of 1930 (19 U.S.C. 1675(c)), that revocation of the antidumping duty order on pure magnesium from China would be likely to lead to continuation or recurrence of material injury to an industry in the United States within a reasonably foreseeable time.²

¹ The record is defined in sec. 207.2(f) of the Commission's Rules of Practice and Procedure (19 CFR ' 207.2(f)).

² Commissioner Dean A. Pinkert did not participate in this review.

Background

The Commission instituted this review on June 1, 2011 (76 F.R. 31635) and determined on September 6, 2011 that it would conduct an expedited review (76 F R 60291, October 6, 2011).

The Commission transmitted its determination in this review to the Secretary of Commerce on October 31, 2011. The views of the Commission are contained in USITC Publication 4274 (October 2011), entitled Pure Magnesium from China: Investigation No. 731-TA-696 (Third Review).

Issued: November 2, 2011.
By order of the Commission.
James R. Holbein,
Secretary to the Commission.

[FR Doc. 2011-28848 Filed 11-7-11; 8:45 am]

BILLING CODE 7020-02-P